DEPARTMENT OF ENERGY

Federal Energy Regulatory Commission

[Docket No. RM01-5-000]

Electronic Tariff Filings; Notice of Procedures for Public Utilities Seeking To Extend the Date for Commission Action on Statutory Filings

This is to provide notice that Commission staff has posted (at http://www.ferc.gov/docs-filing/etariff/comm-order/extend-date.pdf) procedures that public utilities filing under Part 35 must follow if they seek to extend the date by which the Commission must act on a rate case or other statutory filing.

Dated: February 23, 2012.
Kimberly D. Bose,
Secretary.

[FR Doc. 2012-5003 Filed 3-1-12; 8:45 am]

BILLING CODE 6717-01-P